OVERSEAS PRIVATE INVESTMENT CORPORATION

July 10, 2003 Public Hearing; Sunshine Act

OPIC's Sunshine Act notice of its public hearing was published in the Federal Register (Volume 68, Number 121, Page 37593) on June 24, 2003. No request were received to provide testimony or submit written statements for the record; therefore, OPIC's public hearing in conjunction with OPIC's July 17, 2003 Board of Directors meeting scheduled for 2 PM on July 10, 2003 has been cancelled.

Contact Person for Information: Information on the hearing cancellation may be obtained from Connie M. Downs at (202) 336-8438, via facsimile at (202) 218-0136, or via e-mail at cdown@opic.gov.

Dated: July 8, 2003.
Connie M. Downs,
OPIC Corporate Secretary.

[FR Doc. 03-17551 Filed 7-8-03; 9:35 am]

BILLING CODE 3210-01-M